DEPARTMENT OF ENERGY

Federal Energy Regulatory Commission

[Docket Nos. ER22-379-000; ER22-379-001]

Southwest Power Pool, Inc.; Notice of Conference Call

On Wednesday, April 6, 2022, Commission staff will hold a conference call with Southwest Power Pool, Inc. beginning at 3:00 p.m. (Eastern Time). The purpose of the conference call is to clarify the information provided in response to the deficiency letter issued on February 11, 2022 (Deficiency Letter). The discussion during the conference call will be focused principally on the responses to questions 3, 4, 5, and 7 in the Deficiency Letter.

All interested parties are invited to listen by phone. The conference call will not be webcasted or transcribed. However, an audio listen-only line will be provided. Those wishing to access the listen-only line must email Thomas Bayly at Thomas.Bayly@ferc.gov by 5:00 p.m. (Eastern Time) on Tuesday, April 5, 2022, with their name, email, and phone number, in order to receive the call-in information before the conference call. Please use the following text for the subject line, “ER22-379-000 listen-only line registration.”

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Thomas Bayly at Thomas.Bayly@ferc.gov.

Dated: March 30, 2022.
Debbie-Anne A. Reese,
Deputy Secretary.

[FR Doc. 2022-07125 Filed 4-4-22; 8:45 am]

BILLING CODE 6717-01-P